NUCLEAR REGULATORY COMMISSION

[NRC-2018-0155]

Revisions to Uniform Low-Level Radioactive Waste Manifest Forms

AGENCY: Nuclear Regulatory Commission.

ACTION: Availability of forms; issuance.

SUMMARY: The U.S. Nuclear Regulatory Commission (NRC) announces the availability of revisions to the NRC Form 540 (Uniform Low-Level Radioactive Waste Manifest (Shipping Paper)), NRC Form 541 (Uniform Low-Level Radioactive Waste Manifest (Container and Waste Description)), and NRC Form 542 (Uniform Low-Level Radioactive Waste Manifest (Manifest Index and Regional Compact Tabulation)). The forms are available for implementation, consistent with the forms included in NUREG/BR-0204, Revision 3, “Instructions for Completing NRC's Uniform Low-Level Radioactive Waste Manifest.”

DATES: Revised NRC Forms 540, 541, and 542 became effective on June 25, 2021. Users of the NRC Forms 540, 541, 542 should transition to the revised forms on or before September 23, 2021.

ADDRESSES: Please refer to Docket ID NRC-2018-0155 when contacting the NRC about the availability of information regarding this document. You may obtain publicly available information related to this document using any of the following methods:

• Federal Rulemaking Website: Go to https://www.regulations.gov and search for Docket ID NRC-2018-0155. Address questions about Docket IDs in Regulations.gov to Stacy Schumann; telephone: 301-415-0624; email: Stacy.Schumann@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's Form Library: NRC Forms 540, 541, and 542 can be accessed on the NRC Form Library at https://www.nrc.gov/reading-rm/doc-collections/forms/.

• Attention: The PDR, where you may examine and order copies of public documents, is currently closed. You may submit your request to the PDR via email at pdr.resource@nrc.gov or call 1-800-397-4209 or 301-415-4737, between 8:00 a.m. and 4:00 p.m. (ET), Monday through Friday, except Federal holidays.

FOR FURTHER INFORMATION CONTACT: Priya Yadav, telephone: 301-415-6667, email: Priya.Yadav@nrc.gov and Karen Pinkston, telephone: 301-415-3650, email: Karen.Pinkston@nrc.gov. Both are staff of the Office of Nuclear Material Safety and Safeguards, U.S. Nuclear Regulatory Commission, Washington, DC 20555-0001.

SUPPLEMENTARY INFORMATION:

I. Background

The NRC published NUREG/BR-0204, Revision 3, “Instructions for Completing the NRC's Uniform Low-Level Radioactive Waste Manifest,” on July 2, 2020 (85 FR 39936), including revisions to NRC Forms 540, 541, and 542. However, following several requests to delay implementation, the NRC announced on September 30, 2020 (85 FR 61576) that it was postponing implementation of NUREG/BR-0204, Revision 3 and the revised NRC forms until further notice. The NRC indicated that licensees should continue to use NUREG/BR-0204, Revision 2 and the versions of NRC Forms 540, 541, and 542 that were renewed in January 2020, or equivalent, as defined in NRC's regulations.

II. Discussion

NUREG/BR-0204, Revision 3, provides guidance on completing NRC Forms 540, 541, and 542 (i.e., the NRC's Uniform Low-Level Waste Manifest) as required by part 20 of title 10 of the Code of Federal Regulations (10 CFR), appendix G. The NRC revised NUREG/BR-0204 and NRC Forms 540, 541, and 542 to address stakeholder feedback since the publication of Revision 2 of NUREG/BR-0204 (ADAMS Accession No. ML071870172). The final NUREG/BR-0204, Revision 3 and the NRC's comment resolutions are available in ADAMS under Accession Nos. ML20178A433 and ML19214A186, respectively.

This notice herein announces the revisions to the NRC Form 540, 541, and 542 are available for implementation. Note, the definitions section 10 CFR part 20, appendix G, states that “Licensees need not use originals of these NRC Forms as long as any substitute forms are equivalent to the original documentation in respect to content, clarity, size, and location of information.” Licensees should contact the receiving facility for waste shipments to Agreement States to determine if Agreement State regulators require the use of an equivalent form consistent with their State regulatory program.

Dated: June 22, 2021.
For the Nuclear Regulatory Commission.
Patricia K. Holahan,
Director, Division of Decommissioning, Uranium Recovery, and Waste Programs, Office of Nuclear Material Safety and Safeguards.

[FR Doc. 2021-13543 Filed 6-24-21; 8:45 am]

BILLING CODE 7590-01-P